DEPARTMENT OF COMMERCE

International Trade Administration

[A-580-868]

Large Residential Washers From the Republic of Korea: Amended Final Results of the Antidumping Duty Administrative Review; 2012-2014

AGENCY: Enforcement and Compliance, International Trade Administration, Department of Commerce.

SUMMARY: The Department of Commerce (the Department) is amending the final results of the administrative review of the antidumping duty (AD) order on large residential washers (LRWs) from the Republic of Korea (Korea) to correct a ministerial error. The period of review (POR) is August 3, 2012, through January 31, 2014.

DATES: Effective Date: November 5, 2015.

FOR FURTHER INFORMATION CONTACT: David Goldberger or Reza Karamloo, AD/CVD Operations, Office II, Enforcement and Compliance, International Trade Administration, U.S. Department of Commerce, 14th Street and Constitution Avenue NW., Washington, DC 20230; telephone: (202) 482-4136 or (202) 482-4470, respectively.

SUPPLEMENTARY INFORMATION:

Background

On September 8, 2015, the Department issued the final results of the administrative review of the AD order on LRWs from Korea.¹ On September 9, 2015, the Department disclosed to interested parties its calculations for the Final Results.² On September 15, 2015, we received a timely ministerial error allegation from respondent LG Electronics, Inc. (LGE) regarding its margin calculation.³ We did not receive rebuttal comments from the petitioner.

¹ See Large Residential Washers from the Republic of Korea: Final Results of the Antidumping Duty Administrative Review; 2012-2014, 80 FR 55595 (September 16, 2015) (Final Results), and accompanying Issues and Decision Memorandum.

² See Memorandum to the File, “Final Results Margin Calculation for LGE,” (September 8, 2015).

³ See Letter from LGE, “LG Electronics' Request for Correction of Clerical Errors—Large Residential Washers from Korea,” (September 15, 2015).

In the Final Results, we made a ministerial error by not excluding from our margin analysis certain U.S. sales with reported dates prior to August 3, 2012, the effective date of suspension of liquidation and the beginning of the POR.⁴ To correct the error identified by LGE, we included additional programming language in the margin program.⁵

⁴ See Memorandum to Melissa Skinner, Director, AD/CVD Operations, Office II, from David Goldberger and Reza Karamloo, International Trade Compliance Analysts, AD/CVD Operations, Office II, “Ministerial Error Allegation for the Final Results,” dated concurrently with this notice (Ministerial Error Memorandum).

⁵ Id., at 2-3.

Scope of the Order

The products covered by the order are all large residential washers and certain subassemblies thereof from Korea. The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to this scope is dispositive.⁶

⁶ For a complete description of the scope of the order see the Issues and Decision Memorandum accompanying the Final Results. The HTSUS numbers are revised from the numbers previously stated in the scope.

Ministerial Error

Section 751(h) of the Tariff Act of 1930, as amended (the Act), and 19 CFR 351.224(f) define a “ministerial error” as an error “in addition, subtraction, or other arithmetic function, clerical error resulting from inaccurate copying, duplication, or the like, and any similar type of unintentional error which the Secretary considers ministerial.” We analyzed the ministerial error allegation and determined, in accordance with section 751(h) of the Act and 19 CFR 351.224(e), that we made a ministerial error in identifying U.S. sales to be excluded from our analysis according to the reported entry date.

In accordance with section 751(h) of the Act and 19 CFR 351.224(e), we are amending the Final Results with respect to LGE.⁷ The revised weighted-average dumping margin for LGE is detailed below.

⁷ See Ministerial Error Memorandum. The weighted-average dumping margins for Daewoo Electronics Corporation (Daewoo) and Samsung Electronics Co., Ltd. (Samsung) in the Final Results have not changed.

Amended Final Results of the Review

As a result of correcting this ministerial error, we determine that the following weighted-average margin exists for LGE for the period August 3, 2012, through January 31, 2014:

Manufacturer/Exporter | Weighted- average dumping margin (percent)
LG Electronics, Inc | 1.38

Assessment Rates

Pursuant to section 751(a)(2)(C) of the Act, and 19 CFR 351.212(b)(1), the Department has determined, and U.S. Customs and Border Protection (CBP) shall assess, antidumping duties on all appropriate entries of subject merchandise in accordance with the amended final results of this review. The Department intends to issue appropriate assessment instructions directly to CBP 15 days after publication of the amended final results of this administrative review.

For those sales where LGE reported the entered value of its U.S. sales, we calculated importer-specific ad valorem duty assessment rates based on the ratio of the total amount of antidumping duties calculated for the examined sales to the total entered value of the examined sales to that importer. For those sales where LGE did not report the entered value of its U.S. sales, we calculated importer-specific customer-specific per-unit duty assessment rates by aggregating the total amount of antidumping duties calculated for the examined sales and dividing this amount by the total quantity of those sales. To determine whether the duty assessment rate is de minimis, in accordance with the requirement set forth in 19 CFR 351.106(c)(2), we calculated an importer-specific ad valorem ratio based on the estimated entered value. Where an importer-specific assessment rate is zero or de minimis (i.e., less than 0.5 percent), the Department will instruct CBP to liquidate these entries without regard to antidumping duties pursuant to 19 CFR 351.106(c)(2).

For Daewoo's and Samsung's U.S. sales, we based the assessment rate assigned to the corresponding entries on the weighted-average dumping margins listed in the Final Results.

The Department clarified its “automatic assessment” regulation on May 6, 2003.⁸ If applicable, this clarification will apply to entries of subject merchandise during the POR produced by LGE, for which the company did not know that its merchandise was destined for the United States. In such instances, we will instruct CBP to liquidate these entries at the all-others rate established in the less-than fair-value (LTFV) investigation, 11.80 percent,⁹ if there is no rate for the intermediary involved in the transaction. See Assessment Policy Notice for a full discussion of this clarification.

⁸ See Antidumping and Countervailing Duty Proceedings: Assessment of Antidumping Duties, 68 FR 23954 (May 6, 2003) (Assessment Policy Notice).

⁹ See Large Residential Washers From Mexico and the Republic of Korea: Antidumping Duty Orders, 78 FR 11148 (February 15, 2013) (AD Order).

Cash Deposit Requirements

The following cash deposit requirements will be effective upon publication of the notice of amended final results of administrative review for all shipments of the subject merchandise entered, or withdrawn from warehouse, for consumption on or after the date of publication, as provided by section 751(a)(2)(C) of the Act: (1) The cash deposit rate for LGE will be equal to the weighted-average dumping margin established in the amended final results of this administrative review, as shown above; (2) the cash deposit rates for Daewoo and Samsung will continue to be equal to the weighted-average dumping margins established in the Final Results; (3) for merchandise exported by manufacturers or exporters not covered in this administrative review but covered in a prior segment of the proceeding, the cash deposit rate will continue to be the company-specific rate published for the most recently-completed segment; (4) if the exporter is not a firm covered in this review, a prior review, or the original LTFV investigation, but the manufacturer is, the cash deposit rate will be the rate established for the most recently-completed segment of this proceeding for the manufacturer of the merchandise; and (5) the cash deposit rate for all other manufacturers or exporters will continue to be 11.80 percent, the all-others rate determined in the LTFV investigation.¹⁰ These cash deposit requirements, when imposed, shall remain in effect until further notice.

¹⁰ Id.

Notification to Importers Regarding the Reimbursement of Duties

This notice also serves as a final reminder to importers of their responsibility under 19 CFR 351.402(f)(2) to file a certificate regarding the reimbursement of antidumping and/or countervailing duties prior to liquidation of the relevant entries during this review period. Failure to comply with this requirement could result in the Secretary's presumption that reimbursement of antidumping and/or countervailing duties occurred and the subsequent assessment of double antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

We will disclose the calculations used in our analysis to parties to this proceeding within five days of the date of publication of this notice pursuant to 19 CFR 351.224(b).

These amended final results of administrative review are issued and published in accordance with sections 751(h) and 777(i)(1) of the Act and 19 CFR 351.224(e).

Dated: October 30, 2015.
Paul Piquado,
Assistant Secretary for Enforcement and Compliance.

[FR Doc. 2015-28249 Filed 11-4-15; 8:45 am]

BILLING CODE 3510-DS-P